DEPARTMENT OF THE INTERIOR

Bureau of Land Management

[AZ-040-00-7122-EU-5709; AZA 31123]

Notice of Realty Action; Airport Conveyance; Arizona

AGENCY: Bureau of Land Management, Interior.

ACTION: Notice.

SUMMARY: The following public lands in Greenlee County, Arizona have been examined and found suitable for conveyance for airport purposes to the Town of Duncan, a political subdivision, under the provisions of the Airport and Airway Improvement Act of 1982 (96 Stat. 692, 49 U.S.C. 2215).

Gila and Salt River Meridian, Arizona

T. 8 S., R. 31 E.,

Sec. 35, E1/2E1/2.

The area described contains 160 acres.

This action is a motion by the Bureau of Land Management to make available lands identified and designated as disposal lands under the Safford District Resource Management Plan, dated August 1991, and are not needed for Federal purposes. Conveyance is consistent with current BLM land use planning and would be in the public interest. Detailed information concerning this action is available for review at the Bureau of Land Management, Safford Field Office, 711 14th Avenue, Safford, Arizona.

The patent when issued will be subject to the following terms, conditions and reservations:

1. A right-of-way for ditches and canals constructed by the authority of the United States, Act of August 30, 1890 (43 U.S.C. 945).

2. All minerals in the land shall be reserved to the United States, together with the right to mine and remove the same under applicable laws and whether such mining and removal of minerals will interfere with the development, operation and maintenance of the airport.

3. All valid existing rights documented on the official public land records at the time of patent issuance.

4. Two rights-of-way under section 28 of the Mineral Leasing Act of 1920, as amended (41 Stat. 437; 30 U.S.C. 185) for oil and gas pipeline purposes granted to El Paso Natural Gas Company (AZA 004521 and PHX 0079873).

5. The property interest conveyed shall revert to the United States in the event that the lands in question are not developed for airport or airway purposes or are used in a manner inconsistent with the terms of the conveyance.

Detailed information concerning this action is available for review at the Bureau of Land Management, Safford Field Office, 711 14th Avenue, Safford, Arizona 85546. Upon publication of this notice in the Federal Register, the lands will be segregated from all other forms of appropriation under the public land laws, including the general mining laws. The segregative effect of the notice of realty action will terminate either upon the issuance of a document of conveyance or one year after the date of publication, whichever occurs first.

For a period of 45 days from the date of publication of this notice in the Federal Register, interested persons may submit comments regarding the proposed conveyance of the lands to the Field Office Manager, Safford Field Office, 711 14th Avenue, Safford, Arizona 85546.

Dated: November 7, 2000.
Wayne King,
Acting Field Office Manager.

[FR Doc. 00-29978 Filed 11-22-00; 8:45 am]

BILLING CODE 4310-32-M